DEPARTMENT OF HOMELAND SECURITY

Federal Emergency Management Agency

44 CFR Part 65

[Docket No. FEMA -B-7450]

Changes in Flood Elevation Determinations

AGENCY: Federal Emergency Management Agency (FEMA), Emergency Preparedness and Response Directorate, Department of Homeland Security.

ACTION: Interim rule.

SUMMARY: This interim rule lists communities where modification of the Base (1 % annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Mitigation Division, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act. This rule is categorically excluded from the requirements of 44 CFR Part 10, Environmental Consideration. No environmental impact assessment has been prepared.

Regulatory Flexibility Act. The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | City of Glendale (03-09-1653P) | Sept. 23, 2004, Sept. 30, 2004, Arizona Business Gazette | The Honorable Elaine M. Scruggs, Mayor, City of Glendale, 5850 West Glendale Avenue, Glendale, Arizona 85301 | Dec. 30, 2004 | 040045
Maricopa | City of Glendale (04-09-0318P) | Sept. 23, 2004, Sept. 30, 2004, Arizona Business Gazette | The Honorable Elaine M. Scruggs, Mayor, City of Glendale, 5850 West Glendale Avenue, Glendale, Arizona 85301 | Dec. 30, 2004 | 040045
Maricopa | City of Goodyear (03-09-1653P) | Sept. 23, 2004, Sept. 30, 2004, Arizona Business Gazette | The Honorable James M. Cavanaugh, Mayor, City of Goodyear, 190 North Litchfield Road, Goodyear, Arizona 85338 | Dec. 30, 2004 | 040046
Maricopa | City of Goodyear (04-09-0318P) | Sept. 23, 2004, Sept. 30, 2004, Arizona Business Gazette | The Honorable James M. Cavanaugh, Mayor, City of Goodyear, 190 North Litchfield Road, Goodyear, Arizona 85338 | Dec. 30, 2004 | 040046
Maricopa | City of Litchfield Park (03-09-1653P) | Sept. 23, 2004, Sept. 30, 2004, Arizona Business Gazette | The Honorable J. Woodfin “Woody” Thomas, Mayor, City of Litchfield Park, 214 West Wigwam Boulevard, Litchfield Park, Arizona 85340 | Dec. 30, 2004 | 040128
Maricopa | City of Peoria (04-09-0960P) | Aug. 12, 2004, Aug. 19, 2004, Arizona Business Gazette | The Honorable John Keegan, Mayor, City of Peoria, Municipal Complex, 8401 West Monroe Street, Peoria, Arizona 85345 | Nov. 18, 2004 | 040050
Maricopa | City of Phoenix (04-09-0716P) | July 1, 2004, July 8, 2004, Arizona Business Gazette | The Honorable Phil Gordon, Mayor, City of Phoenix, 200 West Washington Street, 11th Floor, Phoenix, Arizona 85003-1611 | June 22, 2004 | 040051
Maricopa | Unincorporated Areas (03-09-1653P) | Sept. 23, 2004, Sept. 30, 2004, Arizona Business Gazette | The Honorable Andrew W. Kunasek, Chairman, Maricopa County Board of Supervisors, 301 West Jefferson Street, 10th Floor, Phoenix, Arizona 85003 | Dec. 30, 2004 | 040037
Maricopa | Unincorporated Areas (04-09-0318P) | Sept. 23, 2004, Sept. 30, 2004, Arizona Business Gazette | The Honorable Andrew W. Kunasek, Chairman, Maricopa County Board of Supervisors, 301 West Jefferson Street, 10th Floor, Phoenix, Arizona 85003 | Dec. 30, 2004 | 040037
Pima | City of Tucson (04-09-0621P) | July 29, 2004, Aug. 5, 2004, Daily Territorial | The Honorable Bob Walkup, Mayor, City of Tucson, 255 West Alameda Street, Tucson, Arizona 85701 | Nov. 4, 2004 | 040076
Pima | Unincorporated Areas (04-09-0621P) | July 29, 2004, Aug. 5, 2004, Daily Territorial | The Honorable Sharon Bronson, Chair, Pima County Board of Supervisors, 130 West Congress Street, 11th Floor, Tucson, Arizona 85701 | Nov. 4, 2004 | 040073
Yavapai | Town of Prescott Valley (03-09-1663P) | July 8, 2004, July 15, 2004, Prescott Daily Courier | The Honorable Richard Killingsworth, Mayor, Town of Prescott Valley, 7501 East Civic Circle, Prescott Valley, Arizona 86314 | Oct. 14, 2004 | 040121
Yavapai | Unincorporated Areas (04-09-0725P) | July 22, 2004, July 29, 2004, Prescott Daily Courier | The Honorable Lorna Street, Chairman, Yavapai County Board of Supervisors, 1015 Fair Street, Room 310, Prescott, Arizona 86301 | Oct. 28, 2004 | 040093
California:
Contra Costa | City of Clayton (04-09-0463P) | Aug. 26, 2004, Sept. 2, 2004, Contra Costa Times | The Honorable Peter Laurence, Mayor, City of Clayton, 6000 Heritage Trail, Clayton, California 94517-0280 | Dec. 2, 2004 | 060027
Contra Costa | City of Concord (04-09-0463P) | Aug. 26, 2004, Sept. 2, 2004, Contra Costa Times | The Honorable Mark Peterson, Mayor, City of Concord, Concord City Hall, 1950 Parkside Drive, Concord, California 94519 | Dec. 2, 2004 | 065022
Kern | Unincorporated Areas (04-09-0755P) | Aug. 26, 2004, Sept. 2, 2004, Bakersfield Californian | Mr. John McQuiston, Chairman, Kern County Board of Supervisors, 1115 Truxtun Avenue, Fifth Floor, Bakersfield, California 93301 | July 23, 2004 | 060075
Riverside | City of Corona (04-09-0832P) | July 22, 2004, July 29, 2004, Press Enterprise | The Honorable Jeff Miller, Mayor, City of Corona, 815 West Sixth Street, Corona, California 92882 | Oct. 28, 2004 | 060250
Sacramento | Unincorporated Areas (04-09-0420P) | Oct. 7, 2004, Oct. 14, 2004, Daily Recorder | The Honorable Muriel Johnson, Chair, Sacramento County Board of Supervisors, 700 H Street, Suite 2450, Sacramento, California 95814 | Jan. 13, 2005 | 060262
San Diego | City of National City (04-09-0905P) | July 29, 2004, Aug. 5, 2004, San Diego Union—Tribune | The Honorable Nick Inzunza, Mayor, City of National City, National City Civic Center, 1243 National City Boulevard, National City, California 91950 | Nov. 4, 2004 | 060293
San Diego | San City of Vista (03-09-1498P) | Aug. 19, 2004, Aug. 26, 2004, North County Times | The Honorable Morris Vance, Mayor, City of Vista, P.O. Box 1988, Vista, California 92085 | Nov. 26, 2004 | 060297
Santa Barbara | Unincorporated Areas (03-09-1650P) | Sept. 2, 2004, Sept. 9, 2004, Santa Barbara News-Press | The Honorable Joseph Centeno, Chair, Santa Barbara County Board of Supervisors, 511 East Lakeside Parkway, Suite 141, Santa Maria, California 93455 | Dec. 9, 2004 | 060331
Santa Clara | City of San Jose (04-09-0959P) | Aug. 5, 2004, Aug. 12, 2004, San Jose Mercury News | The Honorable Ron Gonzales, Mayor, City of San Jose, 801 North First Street, San Jose, California 95110 | Nov. 12, 2004 | 060349
Ventura | City of Simi Valley (04-09-0054P) | Oct. 14, 2004, Oct. 21, 2004, Ventura County Star | The Honorable William Davis, Mayor, City of Simi Valley, 2929 Tapo Canyon Road, Simi Valley, California 93063-2199 | Jan. 20, 2005 | 060421
Colorado:
Boulder | City of Longmont (03-08-0580P) | July 1, 2004, July 8, 2004, Daily Times Call | The Honorable Julia Pirmack, Mayor, City of Longmont, 350 Kimbark Street, Longmont, Colorado 80501 | Oct. 7, 2004 | 080027
Boulder | City of Longmont (04-08-0463P) | Sept. 23, 2004, Sept. 30, 2004, Longmont Daily Times Call | The Honorable Julia Pirmack, Mayor, City of Longmont, 350 Kimbark Street, Longmont, Colorado 80501 | Dec. 16, 2004 | 080027
Boulder | Unincorporated Areas (03-08-0580P) | July 1, 2004, July 8, 2004, Daily Times Call | The Honorable Paul Danish, Chairman, Boulder County Board of Commissioners, P.O. Box 471, Boulder, Colorado 80306 | Oct. 7, 2004 | 080023
El Paso | City of Colorado Springs (03-08-0689P) | July 1, 2004, July 8, 2004, The Gazette | The Honorable Lionel Rivera, Mayor, City of Colorado Springs, P.O. Box 1575, Colorado Springs, Colorado 80901 | Oct. 7, 2004 | 080060
El Paso | City of Colorado Springs (04-08-0434P) | Aug. 26, 2004, Sept. 2, 2004, The Gazette | The Honorable Lionel Rivera, Mayor, City of Colorado Springs, P.O. Box 1575, Colorado Springs, Colorado 80901 | Dec. 2, 2004 | 080060
El Paso | City of Colorado Springs (04-08-0314P) | Sept. 23, 2004, Sept. 30, 2004, The Gazette | The Honorable Lionel Rivera, Mayor, City of Colorado Springs, P.O. Box 1575, Colorado Springs, Colorado 80901 | Dec. 30, 2004 | 080060
El Paso | Unincorporated Areas (03-08-0689P) | July 1, 2004, July 8, 2004, The Gazette | The Honorable Chuck Brown, Chair, El Paso County Board of Commissioners, 27 East Vermijo Avenue, Colorado Springs, Colorado 80903-2203 | Oct. 7, 2004 | 080059
El Paso | Unincorporated Areas (03-08-0062P) | Aug. 11, 2004, Aug. 18, 2004, El Paso County News | The Honorable Chuck Brown, Chair, El Paso County Board of Commissioners, 27 East Vermijo Avenue, Colorado Springs, Colorado 80903-2203 | Nov. 18, 2004 | 080059
El Paso | Unincorporated Areas (04-08-0114P) | Sept. 22, 2004, Sept. 29, 2004, El Paso County News | The Honorable Chuck Brown, Chair, El Paso County Board of Commissioners, 27 East Vermijo Avenue, Colorado Springs, Colorado 80903-2203 | Dec. 29, 2004 | 080059
Summit | Town of Breckenridge (04-08-0049P) | July 9, 2004, July 16, 2004, Summit County Journal | The Honorable Ernie Blake, Mayor, Town of Breckenridge, 150 Ski Hill Road, Breckenridge, Colorado 80424 | Oct. 15, 2004 | 080172
Summit | Unincorporated Areas (02-08-0102P) | July 16, 2004, July 23, 2004, Summit County Journal | The Honorable Bill Wallace, Chairman, Summit County Board of Commissioners, County Courthouse, P.O. Box 68, Breckenridge, Colorado 80424 | Oct. 22, 2004 | 080290
Weld | Town of Firestone (04-08-0410P) | Oct. 6, 2004, Oct. 13, 2004, Farmer and Miner | The Honorable Michael Simone, Mayor, Town of Firestone, 151 Grant Avenue, Firestone, Colorado 80520 | Jan. 12, 2005 | 080241
Weld | Town of Frederick (04-08-0410P) | Oct. 6, 2004, Oct. 13, 2004, Farmer and Miner | The Honorable Eric Doering, Mayor, Town of Frederick, 401 Locust Street, Frederick, Colorado 80530 | Jan. 12, 2005 | 080244
Weld | Unincorporated Areas (04-08-0410P) | Oct. 6, 2004, Oct. 13, 2004, Farmer and Miner | The Honorable Robert D. Masden, Chair, Weld County Board of Commissioners, P.O. Box 758, Greeley, Colorado 80632 | Jan. 12, 2005 | 080266
Florida: Sarasota | City of Sarasota (04-04-A194P) | July 15, 2004, July 22, 2004, Sarasota Herald-Tribune | Mr. Michael A. McNees, City Manager, City of Sarasota, 1565 First Street, Sarasota, Florida 34236 | June 24, 2004 | 125150
Idaho:
Ada | Unincorporated Areas (04-10-0213P) | Aug. 19, 2004, Aug. 26, 2004, Idaho Statesman | The Honorable Judy Peavey-Derr, Chairman, Ada County Board of Commissioners, County Courthouse, 200 West Front Street, Boise, Idaho 83702 | Nov. 26, 2004 | 160001
Ada | Unincorporated Areas (04-10-0379P) | Sept. 2, 2004, Sept. 9, 2004, Idaho Statesman | The Honorable Judy Peavey-Derr, Chairman, Ada County Board of Commissioners, County Courthouse, 200 West Front Street, Boise, Idaho 83702 | Dec. 9, 2004 | 160001
Montana:
Missoula | City of Missoula (04-08-0371P) | Aug. 26, 2004, Sept. 2, 2004, The Missoulian | The Honorable Mike Kadas, Mayor, City of Missoula, 435 Ryman Street, Missoula, Montana 59802 | July 23, 2004 | 300049
Missoula | Unincorporated Areas (04-08-0371P) | August 26, 2004, September 2, 2004, The Missoulian | The Honorable Barbara Evans, Chairman, Missoula County Board of Commissioners, 200 West Broadway, Missoula, Montana 59802 | July 23, 2004 | 300048
Nevada: Elko | City of Elko (02-09-1203P) | July 22, 2004, July 29, 2004, Elko Daily Free Press | The Honorable Michael J. Franzoia, Mayor, City of Elko, 1751 College Avenue, Elko, Nevada 89801 | Oct. 28, 2004 | 320010
Utah: Salt Lake | City of South Jordan (04-08-0379P) | Sept. 2, 2004, Sept. 9, 2004, Salt Lake Tribune | The Honorable W. Kent Money, Mayor, City of South Jordan, 1600 West Towne Center Drive, South Jordan, Utah 84095 | Dec. 9, 2004 | 490107

(Catalog of Federal Domestic Assistance No. 83.100, “Flood Insurance”)
Dated: December 1, 2004.
David I. Maurstad,
Acting Director, Mitigation Division, Emergency Preparedness and Response Directorate.

[FR Doc. 04-27132 Filed 12-9-04; 8:45 am]

BILLING CODE 9110-12-P